FEDERAL RETIREMENT THRIFT INVESTMENT BOARD

Notice of Board Meeting

DATES: May 21, 2024, at 10:00 a.m. EDT.

ADDRESSES: Telephonic. Dial-in (listen only) information: Number: 1-202-599-1426, Code: 975 038 707 #; or via web: https://teams.microsoft.com/l/meetup-join/19%3ameeting_MTdiNTcyNmItMDBmYi00NWExLThiNWEtODc1NTQ1NTk0YjQ4%40thread.v2/0?context=%7b%22Tid%22%3a%223f6323b7-e3fd-4f35-b43d-1a7afae5910d%22%2c%22Oid%22%3a%221a441fb8-5318-4ad0-995b-f28a737f4128%22%7d.

FOR FURTHER INFORMATION CONTACT: Kimberly Weaver, Director, Office of External Affairs, (202) 942-1640.

SUPPLEMENTARY INFORMATION:

Board Meeting Agenda

Open Session

1. Approval of the April 23, 2024, Board Meeting Minutes

2. Approval of October 19, 2023, ETAC Meeting Minutes

3. Monthly Reports

(a) Participant Report

(b) Investment Report

(c) Legislative Report

4. Quarterly Reports

(d) Metrics

5. L Funds Study

6. OPE Annual Presentation

Closed Session

7. Information covered under 5 U.S.C. 552b (c)(9)(B) and (c)(10).

Authority: 5 U.S.C. 552b (e)(1).

Dated: May 8, 2024.
Dharmesh Vashee,
General Counsel, Federal Retirement Thrift Investment Board.

[FR Doc. 2024-10338 Filed 5-10-24; 8:45 am]

BILLING CODE 6760-01-P